DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of five individuals and one entity whose property and interests in property have been unblocked pursuant to Executive Order 12978 of October 21, 1995, Blocking Assets and Prohibiting Transactions With Significant Narcotics Traffickers.

DATES: The unblocking and removal from the list of Specially Designated Nationals and Blocked Persons (“SDN List”) of the five individuals and one entity identified in this notice whose property and interests in property were blocked pursuant to Executive Order 12978 of October 21, 1995, is effective on December 14, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On December 14, 2010, the Director of OFAC removed from the SDN List the five individuals and one entity listed below, whose property and interests in property were blocked pursuant to the Order:

TORRES LOZANO, Isolina, c/o LABORATORIOS BLAIMAR DE COLOMBIA S.A., Bogota, Colombia; c/o COSMEPOP, Bogota, Colombia; DOB 11 Mar 1963; Cedula No. 28796392 (Colombia) (individual) [SDNT]

MUNOZ RODRIGUEZ, Soraya, c/o BLANCO PHARMA S.A., Bogota, Colombia; c/o LABORATORIOS BLAIMAR DE COLOMBIA S.A., Bogota, Colombia; c/o DISTRIBUIDORA DE DROGAS LA REBAJA S.A., Bogota, Colombia; c/o LABORATORIOS KRESSFOR DE COLOMBIA S.A., Bogota, Colombia; c/o RADIO UNIDAS FM S.A., Cali, Colombia; c/o DISTRIBUIDORA DE DROGAS CONDOR LTDA., Bogota, Colombia; c/o DISTRIBUIDORA MIGIL LTDA., Cali, Colombia; c/o DEPOSITO POPULAR DE DROGAS S.A., Cali, Colombia; c/o INVERSIONES Y CONSTRUCCIONES ABC S.A., Cali, Colombia; c/o SORAYA Y HAYDEE LTDA., Cali, Colombia; c/o 2000-DODGE S.L., Madrid, Spain; c/o FUNDASER, Cali, Colombia; c/o LATINFAMRACOS S.A., Quito, Ecuador; DOB 26 Jun 1967; Cedula No. 31976822 (Colombia); Passport AC569012 (Colombia) (individual) [SDNT]

ARBELAEZ PARDO, Amparo, c/o INTERAMERICA DE CONSTRUCCIONES S.A., Cali, Colombia; Casa No. 19, Avenida Lago, Ciudad Jardin, Cali, Colombia; c/o LABORATORIOS KRESSFOR DE COLOMBIA S.A., Bogota, Colombia; c/o INVERSIONES ARA LTDA., Cali, Colombia; c/o VALORES MOBILIARIOS DE OCCIDENTE, Bogota, Colombia; c/o CREDIREBAJA S.A., Cali, Colombia; c/o DECAFARMA S.A., Bogota, Colombia; DOB 9 Nov 1950; alt. DOB 9 Aug 1950; Cedula No. 31218903 (Colombia); Passport AC 568973 (Colombia); alt. Passport PEDO1850 (Colombia) (individual) [SDNT]

GALEANO CUBILLOS, Mario Nelson, c/o TERAPIAS VETERINARIA LIMITADA, Bogota, Colombia; Cedula No. 17125384 (Colombia); Passport 17125384 (Colombia) (individual) [SDNT]

ROSERO ANGULO, German, c/o LA HOLANDA S.A., Cali, Colombia; Mexico; Calle 40 No. 27-59, Cali, Colombia; DOB 07 Oct 1964; POB Ipiales, Narino, Colombia; Cedula No. 16708846 (Colombia); Passport AF832289 (Colombia) (individual) [SDNT]

LA HOLANDA S.A., Calle 23C No. 3BISN-26, Cali, Colombia; NIT #805025864-5 (Colombia) [SDNT]

Dated: December 14, 2010.
Adam J. Szubin,
Director, Office of Foreign Assets Control.

[FR Doc. 2010-31804 Filed 12-17-10; 8:45 am]

BILLING CODE 4810-AL-P